DEPARTMENT OF ENERGY

Federal Energy Regulatory Commission

[Project No. 3025-031]

Green Mountain Power Corporation; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Subsequent Minor License.

b. Project No.: 3025-031.

c. Date Filed: March 30, 2022.

d. Applicant: Green Mountain Power Corporation (GMP).

e. Name of Project: Kelley's Falls Hydroelectric Project (project).

f. Location: On the Piscataquog River in Hillsborough County, New Hampshire. The project does not occupy any federal land.

g. Filed Pursuant to: Federal Power Act, 16 U.S.C. 791(a)-825(r).

h. Applicant Contact: John Greenan, Green Mountain Power Corporation, 2152 Post Road, Rutland, VT 05701; phone at (802) 770-2195; email at John.Greenan@greenmountainpower.com.

i. FERC Contact: Arash Barsari at (202) 502-6207, or Arash.JalaliBarsari@ferc.gov.

j. Deadline for filing motions to intervene and protests, comments, recommendations, preliminary terms and conditions, and preliminary fishway prescriptions: 60 days from the issuance date of this notice; reply comments are due 105 days from the issuance date of this notice.

The Commission strongly encourages electronic filing. Please file motions to intervene and protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3025-031.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23453-70). The final rule became effective on May 20, 2022. Commission staff intends to conduct its NEPA review in accordance with CEQ's new regulations.

l. Project Description: The existing Kelley's Falls Project consists of: (1) an approximately 230-foot-long, 31-foot-high concrete and stone masonry dam that includes: (a) an approximately 31-foot-long stone masonry east abutment with an intake structure that includes an 11-foot-wide, 11-foot-high headgate equipped with a 22.2-foot-wide, 17-foot-high trashrack with 2.5-inch clear bar spacing; (b) a 192-foot-long concrete ogee spillway section with: (i) a 6-foot-wide, 2.75-foot-high steel slide gate that includes a 3-foot-wide, 2-foot-high notch; (ii) a 3-foot-diameter, low-level outlet pipe that is plugged and non-operational; (iii) 2.75-foot-high flashboards; and (iv) a crest elevation of 160.75 feet National Geodetic Vertical Datum of 1929 (NGVD 29) at the top of the flashboards; and (c) an approximately 7-foot-long concrete west abutment with a 3.5-foot-diameter gated, low-level outlet pipe; (2) a 284-foot-long, 2.5-foot-wide stone retaining wall on the east river bank that connects to the east abutment of the dam; (3) an impoundment (Namaske Lake) with a surface area of 154 acres at an elevation of 160.75 feet NGVD 29; (4) a 65-foot-long underground steel and concrete penstock; (5) a 28-foot-long, 28-foot-wide brick masonry and steel powerhouse containing a 450-kilowatt vertical Francis turbine-generator unit; (6) a 125-foot-long, 2.4-kilovolt (kV) underground transmission line that connects the generator to a 2.4/12-kV step-up transformer; and (7) appurtenant facilities. The project creates an approximately 65-foot-long bypassed reach of the Piscataquog River.

GMP voluntarily operates the project in a run-of-river mode using an automatic pond level control system, such that project outflow approximates inflow to the impoundment. GMP maintains the impoundment at the flashboard crest elevation of 160.75 feet NGVD 29.

Article 25 of the current license requires GMP to release a continuous minimum flow of 45 cubic feet per second or inflow to the impoundment, whichever is less, as measured immediately downstream of the powerhouse. Downstream fish passage is provided for river herring through the notch in the slide gate located on top of the spillway. There are no upstream fish passage facilities at the project.

The minimum and maximum hydraulic capacities of the powerhouse are 175 and 420 cfs, respectively. The average annual generation of the project was approximately 1,572 megawatt-hours from 2014 through 2020.

GMP is not proposing any changes to project facilities or operation.

m. A copy of the application can be viewed on the Commission's website at https://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, preliminary terms and conditions, and preliminary fishway prescriptions | December 2022.
Deadline for filing reply comments | January 2023.

q. Final amendments to the application must be filed with the Commission no later than 30 days from the issuance date of this notice.

Dated: October 3, 2022.
Kimberly D. Bose,
Secretary.

[FR Doc. 2022-21952 Filed 10-7-22; 8:45 am]

BILLING CODE 6717-01-P